DEPARTMENT OF HOMELAND SECURITY

Coast Guard

33 CFR Part 117

[CGD05-05-129]

RIN 1625-AA-09

Drawbridge Operation Regulations; Elizabeth River, Eastern Branch, VA

AGENCY: Coast Guard, DHS.

ACTION: Notice of temporary deviation from regulations.

SUMMARY: The Commander, Fifth Coast Guard District, has approved a temporary deviation from the regulations governing the operation of the Berkley Bridge, at mile 0.4, across the Eastern Branch of the Elizabeth River in Norfolk, Virginia. To facilitate electrical and mechanical repairs, this deviation allows the drawbridge to remain closed-to-navigation each day, from 7 a.m. to 7 p.m., on four two-day closure periods: November 29 & 30, 2005; December 28 & 29, 2005; January 24 & 25, 2006; and February 21 & 22, 2006.

DATES: This deviation is effective from 7 a.m. on November 29, 2005, to 7 p.m. on February 22, 2006.

FOR FURTHER INFORMATION CONTACT: Gary Heyer, Bridge Management Specialist, Fifth Coast Guard District, at (757) 398-6629.

SUPPLEMENTARY INFORMATION: The Berkley Bridge, a lift-type drawbridge, has a vertical clearance in the closed position to vessels of 48 feet, at mean high water.

The bridge owner, the Virginia Department of Transportation, has requested a temporary deviation from the current operating regulation set out in 33 CFR 117.1007, to effect electrical and mechanical repairs of the draw span.

To facilitate the repairs, the drawbridge will be closed to navigation each day, from 7 a.m. to 7 p.m., on four two-day closure periods: November 29 & 30, 2005; December 28 & 29, 2005; January 24 & 25, 2006; and February 21 & 22, 2006. During these periods, the repairs require immobilizing the operation of the lift span in the closed-to-navigation position. At all other times, the drawbridge will operate in accordance with the current operating regulations outlined in 33 CFR 117.1007.

The Coast Guard has informed the known users of the waterway so that they can arrange their transits to minimize any impact caused by the temporary deviation.

In accordance with 33 CFR 117.35(c), this work will be performed with all due speed in order to return the bridge to normal operation as soon as possible. This deviation from the operating regulations is authorized under 33 CFR 117.35.

Dated: November 10, 2005.
Waverly W. Gregory, Jr.,
Chief, Bridge Administration Branch, Fifth Coast Guard District.

[FR Doc. 05-23029 Filed 11-21-05; 8:45 am]

BILLING CODE 4910-15-P